INTERNATIONAL TRADE COMMISSION

Submission for OMB Review; Comment Request

AGENCY: United States International Trade Commission.

ACTION: Agency proposal for the collection of information submitted to the Office of Management and Budget (OMB) for review; comment request.

SUMMARY: Pursuant to the Paperwork Reduction Act of 1995 (44 U.S.C. Ch. 35), the Commission intends to seek approval from the Office of Management and Budget to ask users of its on-line documents imaging system to provide certain information about themselves. Comments concerning the proposed information collection are requested in accordance with 5 CFR 1320.8(d).

DATES: To be assured of consideration, written comments must be received on or before May 1, 2000.

ADDRESSES: Signed comments should be submitted to Donna R. Koehnke, Secretary, U.S. International Trade Commission, 500 E Street SW, Washington, DC 20436.

FOR FURTHER INFORMATION CONTACT: Copies of the proposed data input screen and draft Supporting Statement to be submitted to the Office of Management and Budget are posted on the Commission's World Wide Web site at http://www.usitc.gov or may be obtained from Donna R. Koehnke, Secretary, U.S. International Trade Commission, telephone, 202-205-1802.

SUPPLEMENTARY INFORMATION:

Request for Comments

Comments are solicited as to (1) whether the proposed information collection is necessary for the proper performance of the functions of the agency, including whether the information will have practical utility; (2) the accuracy of the agency's estimate of the burden of the proposed information collection, including the validity of the methodology and assumptions used; (3) the quality, utility, and clarity of the information to be collected; and (4) minimization of the burden of the proposed information collection on those who are to respond.

Summary of the Proposed Information Collection

The Commission seeks to ensure that only the minimal necessary information is collected for its needs and that the burden remain as little as possible on respondents.

The collection form asks that the respondent enter a userid and password and also describe her/his organization, whether he/she is a party to an action before the USITC, his/her geographic location, and whether she/he may be contacted.

The Commission estimates that the survey will impose an average burden of less than two (2) minutes on each respondent.

By order of the Commission.
Issued: February 23, 2000.
Donna R. Koehnke,
Secretary.

[FR Doc. 00-4908 Filed 2-29-00; 8:45 am]

BILLING CODE 7020-02-P